DEPARTMENT OF COMMERCE

National Oceanic and Atmospheric Administration

RIN 0648-XB054

Endangered Species; File No. 16598

AGENCY: National Marine Fisheries Service (NMFS), National Oceanic and Atmospheric Administration (NOAA), Commerce.

ACTION: Notice; receipt of application.

SUMMARY: Notice is hereby given that Inwater Research Group, Inc. (Responsible Party and Principal Investigator: Michael Bresette), 4160 NE Hyline Drive, Jensen Beach, FL 34957, has applied in due form for a permit to take green (Chelonia mydas), loggerhead (Caretta caretta), hawksbill (Eretmochelys imbricata), and Kemp's ridley (Lepidochelys kempii) sea turtles for scientific research.

DATES: Written, telefaxed, or email comments must be received on or before April 4, 2012.

ADDRESSES: The application and related documents are available for review by selecting “Records Open for Public Comment” from the Features box on the Applications and Permits for Protected Species (APPS) home page, https://apps.nmfs.noaa.gov, and then selecting File No. 16598 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits, Conservation and Education Division:

• By email to NMFS.Pr1Comments@noaa.gov (include the File No. in the subject line of the email),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Amy Hapeman or Colette Cairns, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant requests a 5-year permit to continue long-term research on the demographics and movements of green, loggerhead, hawksbill, and Kemp's ridley sea turtles in the Key West National Wildlife Refuge and extend this work to an additional study area, the Big Bend of Florida. The objectives of the research are to: (1) Obtain information on sea turtle abundance, size frequencies, and sex ratios; (2) determine the genetic origin of sea turtle populations in the region; (3) continue to monitor turtle foraging habits; (4) track prevalence of fibropapilomatosis in sea turtles; (5) track green sea turtle movements west of the Marquesas Keys; and (6) identify habitat preferences of hawksbill sea turtles in the Key West National Wildlife Refuge. Up to 160 green, 160 loggerhead, 75 hawksbill, and 66 Kemp's ridley sea turtles would be captured annually for flipper and passive integrated transponder tagging, blood and tissue sampling, morphometrics, photography, and weights. A subset of sea turtles would be lavaged and/or satellite tagged. In addition to captures, researchers would conduct vessel surveys to observe and count sea turtles in the area.

Dated: February 29, 2012.
P. Michael Payne,
Chief, Permits and Conservation Division, Office of Protected Resources, National Marine Fisheries Service.

[FR Doc. 2012-5309 Filed 3-2-12; 8:45 am]

BILLING CODE 3510-22-P